DEPARTMENT OF THE INTERIOR

Fish and Wildlife Service

Notice of Receipt of Applications for Endangered Species Recovery Permit

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We, the U.S. Fish and Wildlife Service, solicit review and comment from local, State, and Federal agencies, and the public on the following permit requests.

DATES: Comments on these permit applications must be received on or before December 9, 2002, to receive consideration by us.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-797234

Applicant: LSA Associates, Inc., Point Richmond, California.

The permittee requests an amendment to take (harass by survey, capture, handle, collect tail tissue, collect voucher specimens, and release) the Sonoma distinct population segment (DPS) of the California tiger salamander (Ambystoma californiense) in conjunction with demographic research in Sonoma County, California for the purpose of enhancing its survival.

Permit No. TE-027296

Applicant: Michael Fawcett, Bodega, California.

The permittee requests an amendment to take (harass by survey, capture, handle, collect tail tissue, collect voucher specimens, release, and recapture) the Sonoma distinct population segment (DPS) of the California tiger salamander (Ambystoma californiense) in conjunction with demographic research in Sonoma County, California for the purpose of enhancing its survival.

Permit No. TE-825572

Applicant: Jeff Dreier, San Rafael, California.

The permittee requests an amendment to take (harass by survey, capture, handle, and release) the Sonoma distinct population segment (DPS) of the California tiger salamander (Ambystoma californiense) in conjunction with demographic research in Sonoma County, California for the purpose of enhancing its survival.

Permit No. TE-032713

Applicant: California Department of Transportation, Fresno, California.

The applicant requests a permit to take (capture) the Fresno kangaroo rat (Dipodomys nitratoides exilis) and the Buena Vista Lake shrew (Sorex ornatus relictus) in conjunction with surveys throughout the species range in California for the purpose of enhancing their survival.

Permit No. TE-063230

Applicant: Jim Rocks, San Diego, California.

The applicant requests a permit to take (survey by pursuit) the Quino checkerspot butterfly (Euphydryas editha quino) in conjunction with demographic research in San Diego, Riverside, Orange, and Imperial Counties, California, for the purpose of enhancing its survival.

Permit No. TE-062391

Applicant: Shauna A. McDonald, Riverside, California.

The applicant requests a permit to take (capture, mark) the Stephens' kangaroo rat (Dipodomys stephensi) in conjunction with surveys and demographic studies throughout the species range in California for the purpose of enhancing its survival.

Permit No. TE-802089

Applicant: Patricia Tatarian, Petaluma, California.

The permittee requests an amendment to take (harass by survey, capture, handle, tag, mark, release, and recapture) the Sonoma distinct population segment (DPS) of the California tiger salamander (Ambystoma californiense) in conjunction with demographic research in Sonoma County, California for the purpose of enhancing its survival.

Permit No. TE-063608

Applicant: Brian Lohstroh, San Diego, California.

The applicant requests a permit to take (survey by pursuit) the Quino checkerspot butterfly (Euphydryas editha quino) in conjunction with demographic research in San Diego, Riverside, Orange, and Imperial Counties, California, for the purpose of enhancing its survival.

Permit No. TE-063427

Applicant: Sarah Powell, Carmichael, California.

The applicant requests a permit to take (harass by survey) the Conservancy fairy shrimp (Branchinecta conservatio), the longhorn fairy shrimp (Branchinecta longiantenna), the Riverside fairy shrimp (Streptocephalus wootoni), the San Diego fairy shrimp (Branchinecta sandiegonensis), the vernal pool fairy shrimp (Branchinecta lynchi), and the vernal pool tadpole shrimp (Lepidurus packardi) in conjunction with surveys throughout the range of each species for the purpose of enhancing their survival.

Permit No. TE-063429

Applicant: California Department of Water Resources, Fresno, California.

The applicant requests a permit to take (capture, mark, and release) the Fresno kangaroo rat (Dipodomys nitratoides exilis), the giant kangaroo rat (Dipodomys ingens), the Tipton's kangaroo rat (Dipodomys nitratoides nitratoides), and the Buena Vista Lake shrew (Sorex ornatus relictus) in conjunction with surveys in Fresno, Kern, Kings, Madera, Merced, Monterey, San Benito, San Luis, Stanislaus, and Tulare Counties, California, for the purpose of enhancing their survival.

Dated: October 24, 2002.
Rowan W. Gould,
Acting Regional Director, Region 1, Portland, Oregon.

[FR Doc. 02-28321 Filed 11-6-02; 8:45 am]

BILLING CODE 4310-55-P